DEPARTMENT OF ENERGY

Federal Energy Regulatory Commission

Notice of Effectiveness of Exempt Wholesale Generator Status

June 24, 2008.

| Docket No.
Invenergy Nelson, LLC | EG08-42-000
Turkey Track Wind Energy LLC | EG08-43-000
Starwood Power-Midway, LLC | EG08-44-000
Noble Wethersfield Windpark, LLC | EG08-45-000
Noble Bellmont Windpark, LLC | EG08-46-000
Noble Chateaugay Windpark, LLC | EG08-47-000
Standard Binghamton LLC | EG08-48-000
NRG Southaven LLC | EG08-49-000
EFS Parlin Holdings LLC | EG08-50-000
Twin Cities Hydro LLC | EG08-51-000
North Allegheny Wind, LLC | EG08-52-000

Take notice that during the month of May 2008, the status of the above-captioned entities as Exempt Wholesale Generators became effective by operation of the Commission's regulations. 18 CFR 366.7(a).

Kimberly D. Bose,
Secretary.

[FR Doc. E8-15083 Filed 7-2-08; 8:45 am]

BILLING CODE 6717-01-P